GENERAL SERVICES ADMINISTRATION

Office of Governmentwide Policy; Cancellation of an Optional Form by the Department of Defense

AGENCY: Office of Governmentwide Policy, GSA.

ACTION: Notice.

SUMMARY: The Department of Defense cancelled the following Optional Form because of low usage: OF 70A, Fragile Label (2½ x 2½″).

DATES: Effective June 16, 2005.

FOR FURTHER INFORMATION CONTACT: Ms. Barbara Williams, (202) 501-0581.

Dated: June 7, 2005.
Barbara M. Williams,
Deputy Standard and Optional Forms Management Officer, General Services Administration.

[FR Doc. 05-11846 Filed 6-15-05; 8:45 am]

BILLING CODE 6820-34-M